NATIONAL SCIENCE FOUNDATION

Committee Management Renewal

The NSF management officials having responsibility for the advisory committee listed below have determined that renewing this committee for another two years is necessary and in the public interest in connection with the performance of duties imposed upon the Director, National Science Foundation (NSF), by 42 U.S.C. 1861 et seq. This determination follows consultation with the Committee Management Secretariat, General Services Administration.

Committee

STEM Education Advisory Panel, #2624.

Effective date for renewal is October 18, 2019. For more information, please contact Crystal Robinson, NSF, at (703) 292-8687.

Dated: October 18, 2019.
Crystal Robinson,
Committee Management Officer.

[FR Doc. 2019-23147 Filed 10-23-19; 8:45 am]

BILLING CODE 7555-01-P